DEPARTMENT OF COMMERCE

National Oceanic and Atmospheric Administration

RIN 0648-XN07

Endangered and Threatened Species; Take of Anadromous Fish

AGENCY: National Marine Fisheries Service (NMFS), National Oceanic and Atmospheric Administration (NOAA), Commerce.

ACTION: Notice of availability and request for comment.

SUMMARY: Notice is hereby given that The Northwest Indian Fisheries Commission (NWIFC) has submitted an amendment to its Tribal Resource Management Plan (Tribal Plan) for NMFS to evaluate. The amendment would allow tribal researchers to take adult and juvenile Puget Sound steelhead and adult Puget Sound Chinook salmon in addition to the fish they already take under the current Tribal Plan. It was presented by the Bureau of Indian Affairs (BIA) on behalf of the Northwest Indian Tribes; the submission fulfills the Tribes' obligations under the protective regulations promulgated for Puget Sound Chinook salmon, Puget Sound steelhead, and Hood Canal summer-run chum salmon under the Endangered Species Act (ESA). The Tribal Plan describes research and assessment activities that may affect listed Puget Sound Chinook salmon, Puget Sound steelhead, and Hood Canal summer-run chum salmon in Washington State. NMFS has completed an evaluation of how well the Tribal Plan fulfills ESA criteria and proposes to determine that the Tribal Plan will not appreciably reduce any listed species' likelihood of survival and recovery. The Secretary of Commerce is making NMFS' evaluation and proposed determination available for public comment.

DATES: Written comments on the Secretary's evaluation and proposed determination must be received at the appropriate address or fax number (see ADDRESSES) no later than 5 p.m. Pacific Standard Time on March 12, 2009.

ADDRESSES: Written comments and requests for copies of the proposed evaluation should be addressed to Gary Rule, Protected Resources Division, National Marine Fisheries Service, 1201 NE Lloyd Boulevard, Suite 1100, Portland, OR 97232-1274. Comments may also be sent via fax to (503) 230 5441. Comments will not be accepted if submitted via e-mail or the Internet.

FOR FURTHER INFORMATION CONTACT: Gary Rule, Portland, OR (ph.: 503- 230 5424, Fax: 503-210-5441, e-mail: gary.rule@noaa.gov).

SUPPLEMENTARY INFORMATION:

Species Covered in This Notice

Puget Sound Chinook salmon (Oncorhynchus tshawytscha)

Puget Sound steelhead (O. mykiss)

Hood Canal summer-run chum salmon (O. keta)

Authority

Under section 4 of the ESA, the Secretary is required to adopt such regulations as he deems necessary and advisable for the conservation of the species listed as threatened. The ESA Tribal 4(d) rule (70 FR 37160, June 28, 2005) states that the ESA section 9 take prohibitions do not apply to Tribal Plans that will not appreciably reduce any listed species' likelihood of survival and recovery.

The Tribal Plan

The NWIFC - through the BIA and on behalf of the Northwest Indian Tribes - has submitted an amendment to its Tribal Plan for scientific research and assessment activities within the range of ESA-listed Puget Sound Chinook salmon, Puget Sound steelhead, and Hood Canal summer-run chum salmon. The amendment would alter the current Tribal Plan by allowing researchers to take adult and juvenile Puget Sound steelhead and adult Puget Sound Chinook salmon. The Northwest Indian Tribes conduct, independently and in cooperation with other agencies, a variety of research and assessment projects. These projects provide the technical basis for managing fisheries and conserving and restoring salmon stocks and their habitat. The need for an improved understanding of salmonid survival in the freshwater and early marine life stages drives much of the current research. The Tribal Plan includes implementation, monitoring, and evaluation procedures designed to ensure that the research is consistent with the objectives of the ESA. The research activities described in the Tribal Plan would take place over an 8-year period starting in 2009.

As 50 CFR 223.209 requires, the Secretary must determine whether the Tribal Plan would appreciably reduce the likelihood of survival and recovery for Puget Sound Chinook salmon, Puget Sound steelhead, and Hood Canal summer-run chum salmon. In keeping with those requirements, the Secretary must take comments on how well the Tribal Plan addresses the criteria in § 223.209 when making that determination. NMFS proposes after having evaluated the submission to determine that the Tribal plan will not appreciably reduce the likelihood of survival and recovery for Puget Sound Chinook salmon, Puget Sound steelhead, or Hood Canal summer-run chum salmon.

Dated: February 4, 2009.
Angela Somma,
Chief, Endangered Species Division, Office of Protected Resources, National Marine Fisheries Service.

[FR Doc. E9-2652 Filed 2-9-09; 8:45 am]

BILLING CODE 3510-22-S